ENVIRONMENTAL PROTECTION AGENCY

[EPA-HQ-OW-2024-0482; FRL-12618-01-OMS]

Agency Information Collection Activities; Submission to the Office of Management and Budget for Review and Approval; Comment Request; 2022 National Pollutant Discharge Elimination System (NPDES) Construction General Permit (CGP) for Stormwater Discharges From Construction Activities (Renewal)

AGENCY: Environmental Protection Agency (EPA).

ACTION: Notice.

SUMMARY: The Environmental Protection Agency (EPA) has submitted an information collection request (ICR), 2022 National Pollutant Discharge Elimination System (NPDES) Construction General Permit (CGP) for Stormwater Discharges from Construction Activities (EPA ICR Number 2686.03, OMB Control Number 2040-0305), to the Office of Management and Budget (OMB) for review and approval in accordance with the Paperwork Reduction Act. This is a proposed extension of the ICR, which is currently approved through February 28, 2025. Public comments were previously requested via the Federal Register on November 14, 2024 during a 60-day comment period. This notice allows for an additional 30 days for public comments.

DATES: Comments may be submitted on or before March 31, 2025.

ADDRESSES: Submit your comments, referencing Docket ID Number, EPA-HQ-OW-2024-0482, to EPA online using www.regulations.gov (our preferred method) or by mail to: EPA Docket Center, Environmental Protection Agency, Mail Code 28221T, 1200 Pennsylvania Ave. NW, Washington, DC 20460.

EPA's policy is that all comments received will be included in the public docket without change including any personal information provided, unless the comment includes profanity, threats, information claimed to be Confidential Business Information (CBI) or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Greg Schaner, Water Permits Division, Office of Wastewater Management, Office of Water at telephone number: (202) 564-0721 or email address: schaner.greg@epa.gov.

SUPPLEMENTARY INFORMATION: This is a proposed renewal of the current ICR, which is currently approved through February 28, 2025. An agency may not conduct or sponsor and a person is not required to respond to a collection of information unless it displays a currently valid OMB control number.

Public comments were previously requested via the Federal Register on November 14, 2024 during a 60-day comment period (89 FR 89995). This notice allows for an additional 30 days for public comments. Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: EPA issued the 2022 NPDES general permit for stormwater discharges from construction activities, also referred to as the “2022 CGP,” on February 17, 2022. The 2022 CGP provides permit coverage to eligible construction operators in all areas of the country where EPA is the NPDES permitting authority. The current ICR for the 2022 CGP expires on February 28, 2025. This proposed ICR will renew the existing ICR prior to expiration.

The burden and costs associated with the entire NPDES program, including the administration of the 2017 CGP, are accounted for in the 2017 NPDES Program ICR (EPA ICR number 0229.23 OMB control no. 2040-0004). Certain changes in the 2022 CGP required revisions to the NPDES Program ICR to reflect changes to the information collection requirements. Consistent with the past approach of changes to the NPDES Program, EPA reflected the paperwork burden and costs associated with the difference between the 2022 CGP and the 2017 CGP instead of revising the NPDES Program ICR. EPA will consolidate the burden and costs into the NPDES Program ICR (and discontinue this ICR) in a future reissuance of the NPDES Program ICR.

The information collection changes between the 2017 CGP and the 2022 CGP that is captured in the current ICR are associated with the following:

• New notice of intent (NOI) questions and notice of termination (NOT) requirements;

• New dewatering inspection requirements and turbidity monitoring requirements for sites discharging dewatering water to sensitive waters; and

• Changes to Stormwater Pollution Prevention Plan (SWPPP) requirements.

Form Numbers: Notice of Intent (NPDES Form 3510-9), Notice of Termination (NPDES Form 3510-13), Turbidity Monitoring Reporting Form (NPDES Form 6100-065), Suggested Cationic Treatment Chemicals Form (NPDES Form 6100-066).

Respondents/affected entities: Coverage under the 2022 CGP is available to “operators” of construction activities in areas where EPA is the permitting authority and where the general permit is available for use. The majority of construction activities will be carried out by builders, local developers, and contractors. Relevant Standard Industrial Classification (SIC) codes include the following: 1531, 1541, 1542, 1611, 1622, 1623, and 1629.

Respondent's obligation to respond: Mandatory under NPDES permits issued pursuant to Clean Water Act, 33 U.S.C. 1342(p) et seq.

Estimated number of respondents: EPA estimates that for the duration of the three-year ICR period approximately 10,893 operators will obtain coverage under the 2022 CGP, or 3,631 operators per year.

Frequency of response: Response frequencies in the 2022 CGP vary from once per permit term to quarterly.

Total estimated burden: EPA estimates that the information collection burden of the 2022 CGP is 200,383 hours per year. Burden is defined at 5 CFR 1320.03(b).

Total estimated cost: EPA estimates that the final information collection cost of the 2022 CGP is $15,610,581 per year.

Changes in the estimates: The change in estimated burden between the current and renewal ICRs is attributable to the change in the number of respondents from 2,600 to 3,631 operators per year. The change in the number of estimated respondents led to an increase in burden hours of 73,816 hours per year. Additionally, the labor rates used to calculate the estimated costs increased from $62.77 per hour to $73.47 per hour for the renewal ICR, which, combined with the increase in number of respondents, led to an increase in total estimated cost of $5,973,563 per year.

Courtney Kerwin,
Director, Information Engagement Division.

[FR Doc. 2025-03281 Filed 2-27-25; 8:45 am]

BILLING CODE 6560-50-P